ENVIRONMENTAL PROTECTION AGENCY

40 CFR Part 52

[GA54—200017; FRL-6574-9]

Approval and Promulgation of Implementation Plans, Georgia: Approval of Revisions for a Transportation Control Measure

AGENCY: Environmental Protection Agency (EPA).

ACTION: Proposed rule.

SUMMARY: The EPA is proposing to approve revisions to the Georgia State Implementation Plan (SIP) submitted by the State through the Department of Natural Resources on March 29, 2000, requesting incorporation of the Atlantic Steel Transportation Control Measure (TCM) into the SIP.

DATES: Comments on EPA's proposed action must be received on or before May 10, 2000.

ADDRESSES: All comments should be addressed to: Kay T. Prince, Chief, Regulatory Planning Section at the EPA, Region 4 Air Planning Branch, 61 Forsyth Street, SW, Atlanta, Georgia 30303.

Copies of the state submittal(s) are available at the following addresses for inspection during normal business hours:

Environmental Protection Agency, Region 4, Air Planning Branch, 61 Forsyth Street, SW, Atlanta, Georgia 30303-8960. Contact Dr. Robert W. Goodwin at 404/562-9044.

Georgia Department of Natural Resources, Environmental Protection Division, Air Protection Branch, 4244 International Parkway, Suite 136, Atlanta, Georgia 30354. 404/363-7000.

FOR FURTHER INFORMATION CONTACT: Dr. Robert W. Goodwin at 404/562-9044, E-mail: Goodwin.Robert@epa.gov. Information regarding Project XL and the Atlantic Steel Final Project Agreement is available via the Internet at the following location: “http://www.epa.gov/ProjectXL”.

SUPPLEMENTARY INFORMATION:

I. Background

EPA, with the cooperation of State and local authorities, has initiated Project XL to work with interested companies to develop innovative approaches for addressing environmental issues. Project XL encourages companies and communities to come forward with new approaches that have the potential to advance environmental goals more effectively and efficiently than have been achieved using traditional regulatory tools.

Atlantis 16th, L.L.C. (hereafter referred to as Jacoby or the developer), a developer in Atlanta, Georgia, has proposed redevelopment of a 138-acre site previously owned by Atlantic Steel near Atlanta's central business district. The proposed redevelopment is a mix of residential and business uses. Project plans include a new 17th Street multi-modal (cars, pedestrians, bicycles, transit linkage) bridge that would cross over and provide access ramps to and from Interstate-75/85 (I-75/85) and connect the site to a nearby Metropolitan Atlanta Rapid Transit Authority (MARTA) rapid rail mass transit station. Jacoby worked intensively with representatives of EPA, the State of Georgia, the City of Atlanta, other local authorities, and public stakeholders to develop a site-specific Project XL Agreement that will allow implementation of the redevelopment. The XL Final Project Agreement was signed September 7, 1999.

A. Why Is Project XL Necessary?

The project site currently suffers from poor accessibility due to the lack of a linkage to and across I-75/85 and to the existing MARTA transit system in Atlanta. Construction of an interchange and multi-modal bridge across I-75/85 at or near 17th Street would improve access to the site. The bridge would also serve as a vital linkage between the Atlantic Steel redevelopment and the MARTA Arts Center station. In addition, construction of the 17th Street bridge was one of the City of Atlanta's zoning requirements for the redevelopment.

Jacoby is participating in Project XL for the Atlantic Steel redevelopment because neither the 17th Street bridge nor the associated I-75/85 access ramps would be able to proceed without the regulatory flexibility being allowed by EPA under Project XL. Atlanta is currently out of compliance with federal transportation conformity requirements because it has not demonstrated that its transportation activities will not exacerbate existing air quality problems or create new air quality problems in the region. The Clean Air Act (CAA) generally prohibits construction of new transportation projects that use federal funds or require federal approval in areas where compliance with conformity requirements has lapsed. However, projects which are approved as Transportation Control Measures (TCMs) in the SIP can proceed—even during a conformity lapse. EPA reviews and takes rulemaking action on proposed revisions to SIPs, including proposed TCMs to be included in SIPs.

B. What Is a TCM?

A TCM is any measure that is specifically identified and committed to in the applicable SIP that is either one of the types listed in section 108 of the CAA, or any other measure for the purpose of reducing emissions or concentrations of air pollutants from transportation sources by reducing vehicle use or changing traffic flow or congestion conditions.

C. What Flexibility Is EPA Granting?

The flexibility Jacoby and the City of Atlanta are seeking through Project XL is to regard the entire redevelopment project, including the 17th Street bridge, as a TCM. The flexibility under Project XL is necessary because the redevelopment likely would not qualify as a TCM in the traditional sense. There are two components to the flexibility.

1. The first part of the flexibility is to consider the entire Atlantic Steel redevelopment to be a TCM. That is, the redevelopment's location, transit linkage, site design, and other transportation elements (e.g., provisions for bicyclists; participation in a transportation management association (TMA)) are viewed together as the TCM. Section 108 of the CAA lists several types of projects that can be TCMs, but its language does not limit TCMs to the measures listed.

2. The second aspect of the flexibility sought under Project XL concerns use of an innovative approach to estimate the air quality benefit of the Atlantic Steel redevelopment. The redevelopment's air quality benefit is estimated relative to an equivalent amount of development at other likely sites in the region. This type of comparison is available only to this particular redevelopment through the Project XL process. The entire Atlantic Steel redevelopment would attract new automobile trips and result in new emissions. Therefore, redevelopment of the site when considered in isolation would not qualify as a TCM in the traditional sense. EPA believes, however, that the Atlanta region will continue to grow, and that redevelopment of the Atlantic Steel site will produce fewer air pollution emissions than an equivalent quantity of development that likely would occur at other potential sites in the region, if the Atlantic Steel redevelopment were not to occur.

D. Why Is This Flexibility Appropriate?

EPA believes the flexibility described above is appropriate for this project because of the combination of unique elements of the site and the redevelopment listed below. In the absence of these elements, EPA would be unlikely to approve this project as a TCM.

1. The site is a brownfield. An accelerated clean-up of the site will occur if this TCM is implemented. The clean-up and redevelopment of the former industrial site aligns with EPA's general efforts to encourage clean-up and reuse of urban brownfields.

2. The site has a regionally central, urban location. Redeveloping this property will result in a shift of growth to Midtown Atlanta from the outer reaches of the metropolitan area. Because of the site's central location, people taking trips to and from the site will be driving shorter average distances than those taking trips to and from a development on the edge of the city. Shorter driving distances will result in fewer emissions.

3. The redevelopment plan includes a linkage to MARTA. This linkage would make it possible for those who work at the site to commute without a car and would serve residents of Atlantic Steel as well as residents of surrounding neighborhoods. In addition, the transit link is valuable for those coming to the site for non-work purposes, such as dining, shopping, and entertainment.

4. The redevelopment plan incorporates many “smart growth” site design principles. These principles include features which promote pedestrian and transit access rather than exclusive reliance on the car. The redevelopment will avoid creating areas that are abandoned and unsafe in the evening, hotels and offices will be within walking distance of shops and restaurants, shops that serve local needs will be within walking distance of both the Atlantic Steel site and the adjacent neighborhoods, and wide sidewalks will encourage walking and retail use. Jacoby has also responded to the adjacent neighborhood's request for public parks, designating public space to central locations rather than relegating it to the edge.

5. The redevelopment plan incorporates many elements that could qualify as TCMs by themselves. In addition to other features, such as the linkage to mass transit, the redevelopment will participate in a TMA. The TMA may participate with the City of Atlanta and Jacoby in monitoring the transportation performance of the redevelopment by collecting travel-related data on an annual basis.

With the exception of the site's accelerated clean-up, all of these elements will have an impact on transportation decisions of people who begin and/or end trips in the Atlantic Steel site. The combination of the site's location in a central urban area, connection to the existing transit system, design that promotes pedestrian access, participation in a TMA, and provision of bicycle and pedestrian conveniences are expected to work together to reduce growth in auto traffic in the Atlanta region. The redevelopment could demonstrate that the application of smart growth concepts can make a difference in travel patterns. Therefore, EPA is proposing to use the regulatory flexibility under Project XL to approve the Atlantic Steel redevelopment and its associated transportation projects as a TCM.

II. Analysis of State's Submittal

On March 29, 2000, the State of Georgia through the Department of Natural Resources submitted to EPA a request to approve the Atlantic Steel TCM into the SIP. A public hearing on the proposed SIP revision was held on September 30, 1999.

EPA's policy establishes six criteria that a TCM must meet before it can be considered for approval in the SIP. These criteria are contained in the September 1990 report entitled “Transportation Control Measures: State Implementation Plan Guidance.” These six criteria are addressed in the following six sections.

A. Complete Description of the Measure and Its Estimated Emissions Reduction Benefits

Current plans for redevelopment of the 138-acre Atlantic Steel site include 1.6 million ft² of retail space, 4.0 million ft² of office space, 2885 residential units, 1150 hotel rooms, and 1.5 million ft² of high tech office space to be built in three phases over approximately ten years. The final site design may change from the current design site provided in the March 29, 2000, submittal, however the SIP revision requires the final site design to meet or exceed certain criteria for overall density, transit-oriented density, activity diversity, and external street connectivity.

The City of Atlanta has established 27 zoning conditions on the Atlantic Steel property that are included as part of the SIP revision, requiring Jacoby to complete certain activities, several of which are related to implementation of the TCM. Relevant conditions include: development and appropriate phasing of residential and non-residential components of the project; development of 17th Street as a mixed use street; construction of bicycle lanes; creation of and maintenance of open space; incorporation of a transit connection to the MARTA Arts Center station from the site; development of a transportation management plan, including support for and participation in a TMA; and the necessity of having the 17th Street bridge under contract for construction before building permits are issued for the site. The SIP revision requires that the zoning conditions apply to the current developer and all subsequent developers of the property. The conditions help ensure that the site design maximizes pedestrian and bicycle connectivity, transit connections, and activity diversity. Before construction occurs, the zoning conditions require Jacoby to submit a site plan to the Bureau of Buildings of the City of Atlanta for approval. The zoning conditions are described in more detail in section II.E below.

A multi-modal bridge will be constructed that will connect the site to Midtown Atlanta and the MARTA Arts Center station on the east side of I-75/85 at or near 17th Street. The SIP revision requires the bridge to be designed to accommodate potential future rail transit, with dedicated transit lanes and adequate widths for dedicated sidewalks and bicycle lanes. The bridge will also include ramps connecting to I-75/85.

The SIP revision requires Jacoby to provide an interim rubber tire shuttle service connecting the Atlantic Steel site with the MARTA Arts Center Station utilizing the multi-modal bridge. The SIP revision requires the service to begin operation immediately after construction of the 17th Street bridge. The SIP revision requires that the duration of this obligation is for ten years from the date that the 17th Street bridge opens to traffic or until an appropriate entity operates a fixed mass transit link providing a similar level of service, whichever occurs first. The SIP revision requires the shuttle to complement the hours of service and headways of fixed transit serving the MARTA Arts Center station, operating on a dedicated transit lane with a projected minimum headway of four minutes and a projected maximum headway of eight minutes, and that it will be designed to reduce the number of single occupant trips made to the site. The SIP revision requires the shuttle to provide the most direct and closest access practicable to the anticipated on-site high-density office building development, and, at a minimum, comply with all requirements of the Americans with Disabilities Act related to operation of a transit system. The shuttle system may consist of electric and alternatively fueled buses.

To estimate the air emissions impacts of the Atlantic Steel TCM, EPA, in consultation with stakeholders including the Federal Highway Administration (FHWA), the Atlanta Regional Commission (ARC), and local citizen's groups, undertook three analyses: Regional transportation and air emissions impacts; local hot spot impacts; and site level travel impacts. The results of these analyses are included in the SIP revision in the May 10, 1999, report entitled “Transportation and Environmental Analysis of the Atlantic Steel Development Proposal.” The ARC Interagency Consultation Group, comprised of staff from Federal, state, and local transportation and air quality planning agencies in the Atlanta nonattainment area, approved the modeling methodology EPA used to estimate the emissions benefits of the proposed Atlantic Steel TCM at its February 12, 1999, and May 5, 1999, meetings.

To analyze the transportation and air emissions impacts of locating new development at the Atlantic Steel site, EPA used ARC's regional transportation model and the MOBILE5 emissions factor model to compare the Atlantic Steel site to three other possible development locations for similar-scale development in the Atlanta region. EPA's evaluation of the Atlantic Steel site's impacts is predicated on two assumptions: First, Atlanta will continue to grow over the next 20 years. Second, without redeveloping the 138-acre Atlantic Steel site, more of this growth will locate in outlying areas.

Analysis of regional transportation and air impacts of the proposed Atlantic Steel redevelopment indicates that absorbing a portion of Atlanta's future growth at the Atlantic Steel site would create less travel and fewer emissions than developing likely alternative sites. The study estimates that by the year 2015 the Atlantic Steel redevelopment would generate roughly 0.2-0.3 tons per day fewer emissions of oxides of nitrogen, and 1.1-1.2 tons per day fewer emissions of volatile organic compounds, both precursors to ground-level ozone formation, than comparable developments at other likely sites in the Atlanta region. However, no emissions credit is being claimed by the State of Georgia in the SIP revision for the Atlantic Steel TCM relative to current emissions levels.

EPA analyzed whether additional traffic resulting from the redevelopment of Atlantic Steel would cause carbon monoxide hot spots, i.e., localized levels of carbon monoxide exceeding the National Ambient Air Quality Standards. The analysis indicates that the redevelopment would create no violations of the standards.

Finally, EPA analyzed the transportation and air emissions impacts of the proposed redevelopment's site design. EPA evaluated three designs for the Atlantic Steel site: The design submitted at the time of the Project XL application by Jacoby; a design commissioned by EPA and created by Duany Plater-Zyberk & Co. (DPZ), a leading town planning firm; and a redesign by Jacoby that incorporates aspects of the DPZ design. The designs differ substantially in ways that affect travel behavior and therefore emissions. Compared to Jacoby's original design, the DPZ design and Jacoby's redesign excel in three areas in particular. First, they improve the mix of uses on-site by integrating them at a finer scale. Second, they provide better connectivity both on- and off-site. Third, the pedestrian environment is improved through street design that includes more direct routing and slower traffic speeds. The current site design is essentially Jacoby's redesign.

In summary, EPA analyzed the impacts of development location and design on regional vehicle miles traveled (VMT) and emissions. EPA found that the most regionally central, most transit-accessible, and most pedestrian-friendly location and site design combinations—those at the Atlantic Steel location—produced the least VMT, emissions, and other environmental impacts. The SIP revision requires the final site design to meet or exceed certain criteria that were derived, in part, from EPA's analysis. The site design criteria help ensure that the redevelopment will contain the high density, mixed use, transit- and pedestrian-friendly components EPA studied.

EPA finds that the City of Atlanta and State of Georgia have met this criterion by providing a complete description of the measure and its estimated emissions reduction benefits.

B. Evidence That the Measure Was Properly Adopted by a Jurisdiction With Legal Authority To Commit to and Execute the Measure

The City of Atlanta is the sponsor of the Atlantic Steel TCM and is responsible for implementing and monitoring the project according to the criteria and schedule in the SIP revision. This commitment is evidenced by a letter contained in the SIP revision dated June 22, 1999, from the Honorable Michael A. Dobbins, Commissioner of Planning, Development, and Neighborhood Conservation for the City of Atlanta, to Mr. Harry West, Executive Director of ARC.

In addition, the SIP revision contains a copy of the resolution approved by the ARC Board on June 23, 1999, in which the proposed Atlantic Steel TCM was adopted as part of the Interim Atlanta Region Transportation Improvement Program, Fiscal Years 2000-2002.

EPA finds that the City of Atlanta and State of Georgia have met this criterion by providing sufficient evidence that the measure was properly adopted by a jurisdiction with legal authority to commit to and execute the measure.

C. Evidence That Funding Has Been (Or Will Be) Obligated To Implement the Measure

Although not a direct transportation/air quality component, remediation of the site is a necessary precondition for development. Presently, the estimated cost of remediation is $10 million, which will be paid by the sellers of the property with funds from the purchase price.

The value of the land after remediation is conservatively estimated at $1 million per acre. Of the 138 acres, 47 acres to the west of I-75/85 are scheduled for right-of-way acquisition. The SIP revision requires that, as appropriate, right-of-way for streets, sidewalks, transit, bicycle lanes and open space will be dedicated by Jacoby without cost. The SIP revision requires Jacoby to provide right-of-way in the development to MARTA or other acceptable entity for the construction of a transit linkage connecting the Atlantic Steel site to the MARTA Arts Center station. The estimated value of the right-of-way dedication is $47 million.

The SIP revision identifies several financing mechanisms available to assist with funding for construction of roads, sidewalks and bicycle lanes. The SIP revision includes an ordinance adopted by the City of Atlanta calling for the collection of Transportation Impact Fees. Fees are based upon a cost per peak hour VMT less property tax credit assessed on an amount of square feet for different building types. Jacoby can request a waiver of impact fees of similar magnitude provided the improvements are made as part of the project. Fees are collected at the time a building permit is issued. Appropriate expenditures of fees include projects that promote pedestrian activity, bicycling, mass transit and other alternatives to automobile transportation. As per the current site plan, Transportation Impact Fees for phase one of the project are approximately $2.8 million. Estimates based upon phase two and phase three development plans are approximately $9.7 million.

An alternative method of financing improvements identified and included in the SIP revision is the Atlantic Steel Brownfield Area and Tax Allocation District Number Two (BATAD#2). The BATAD#2 was approved by the Atlanta City Council on October 4, 1999, and signed by the Mayor of the City of Atlanta on October 5, 1999. The BATAD#2 will issue bonds against anticipated revenues to pay for infrastructure improvements. The BATAD#2 will continue in existence for 25 years. The estimated tax increment base set by the City of Atlanta is $7.5 million. This leverages approximately $75 million.

Current estimates for the construction of roads, sidewalks and sewers to the west of I-75/85 are $15 million; preliminary architectural and engineering costs are estimated to be $12 million. The SIP revision establishes that funding for the various infrastructure improvements associated with redevelopment of the Atlantic Steel site will be achieved through either imposition of Transportation Impact Fees or by the BATAD#2, as described above.

The cost of the 17th Street bridge is estimated to be approximately $53 million, with an additional $25 million to purchase required right-of-way and easement for that area of the project beyond the Atlantic Steel development site. The Georgia Department of Transportation (GDOT) has committed to fund all construction costs (which includes the local matching funds) for the western section of 17th Street starting at the railroad bridge and extending to Northside Drive, the 17th Street bridge interchange, including the bridge ramps, frontage road relocations, associated intersections and approaches for 17th Street at Spring Street and West Peachtree Street, and the possible reconstruction of the 14th Street bridge over I-75/85. GDOT will reserve and assign funding to ARC and provide the local match for construction of the 17th Street bridge. GDOT will also fund utility relocations. In addition, GDOT will place the 17th Street corridor from Northside Drive to Spring Street and West Peachtree Street on the temporary state system. This will enable GDOT to finance the purchase of the required right-of-way and easement for that area of the project beyond the Atlantic Steel development site. These commitments by GDOT are part of the SIP revision and are evidenced by: (1) A letter from GDOT Commissioner Wayne Shackelford to City of Atlanta Commissioner Michael A. Dobbins dated February 5, 1999; (2) a GDOT interdepartment correspondence from Joseph P. Palladi to Commissioner Wayne Shackelford dated January 31, 2000; and (3) a letter from Commissioner Wayne Shackelford to City of Atlanta Mayor Bill Campbell dated March 7, 2000.

There are also operating costs associated with the development of the TCM. This includes the cost of operating an interim shuttle service to satisfy transit obligations. Exclusive of right-of-way, hard costs associated with the shuttle service are estimated at $2.68 million; annual operations are estimated to be approximately $1.88 million. The SIP revision requires the cost of the shuttle to be borne by Jacoby.

A TMA is to be formed for the Midtown area of the City of Atlanta. The purpose of the TMA is to gather information on performance measures to be submitted to ARC for evaluation of emissions benefits, as well as to manage alternative transportation programs within the Atlantic Steel site. Start-up costs for the TMA are estimated to be $150,000. Annual operating costs will be in the range of $250,000. The SIP revision requires Jacoby to assist with initial financial support for the TMA. As the TMA progresses, participants (i.e. employers, property managers) will pay dues to support the operation of the organization. The TMA may also be funded by the BATAD #2.

Estimated project costs and funding sources identified in the SIP revision are included in Tables 1 through 4 below.

Table 1.—On-Site Transportation Infrastructure Cost Estimates
Component | Estimate (in millions) | Funding source(s)
Streets, Sidewalks, Transit Lanes (Right of Way) | $40 | Developer.
Streets, Sidewalks, Transit Lanes (Construction) | 15 | BATAD #2 Impact Fees. | Utilities | 9 | BATAD #2 Impact Fees.
Public Amenities | 24 | BATAD #2 Impact Fees.
Total | 88

Table 2.—17th Street Bridge Cost Estimates
Phase | Estimate (In millions) | Funding source(s)
Right of Way (Off Site) | $25 | GDOT, Federal.
Preliminary Engineering and Design | 4 | Developer.
Construction | 53 | GDOT, Federal.
Total | 82

Table 3.—Transit Capital Cost Estimates
Component | Estimate (In millions) | Funding source(s)
Shuttle Stations | $0.52 | Developer.
Shuttle Stops | 0.36 | Developer.
Fleet | 1.8 | Developer.
Total | 2.68 |

Table 4.—Transit Annual Operating Cost Estimate
Component | Estimate (in millions) | Funding source
Annual Operating Cost | $1.88 | Developer.

EPA finds that the City of Atlanta and State of Georgia have met this criterion by providing sufficient evidence that funding has been (or will be) obligated to implement the measure.

D. Evidence That All Necessary Approvals Have Been Obtained From All Appropriate Government Entities

The Georgia Environmental Protection Division (EPD) finalized approval of the site remediation plan as evidenced by a letter from the Director of EPD, Mr. Harold F. Reheis, to Mr. Jesse J. Webb, Chief Executive Officer of Atlantic Steel Industries, and Mr. Hilburn O. Hillstead, Vice President of Atlantis 16th, L.L.C., dated December 10, 1999.

The City of Atlanta approved the rezoning of the Atlantic Steel property on April 13, 1998. The City approved the Transportation Impact Fees ordinance on June 12, 1994. The City approved the BATAD #2 on October 5, 1999. Fulton County approved the BATAD #2 on November 3, 1999. The Atlanta Board of Education approved the BATAD #2 on December 13, 1999. These approvals are evidenced by copies of the relevant ordinances and the BATAD#2, which are included in the SIP revision.

Implementation of the TCM will require approval of an Interchange Modification Report for the 17th Street bridge and approval of the National Environmental Policy Act document by FHWA. Because Atlanta is currently in a transportation conformity lapse, these approvals cannot take place until EPA approves the Atlantic Steel TCM SIP revision. FHWA is committed to working with all appropriate agencies to approve these documents once this SIP is approved.

EPA finds that the City of Atlanta and State of Georgia have met this criterion by providing sufficient evidence that all necessary approvals have been or will be obtained from all appropriate government entities.

E. Evidence That a Complete Schedule To Plan, Implement, and Enforce the Measure Has Been Adopted by the Implementing Agency or Agencies

The SIP revision contains the TCM implementation schedule listed in Table 5.

Table 5.—Implementation Schedule
Timeframe and activity
01/01/2000-12/31/2000:
Complete remediation and infrastructure.
Begin design of bridge.
Begin Phase I vertical development.
01/01/2001-12/31/2001:
Complete bridge design.
Begin bridge construction.
01/01/2002-12/31/2003:
Complete bridge construction.
Complete Phase I vertical development.
Retail—1.2 million ft².
Office—1.0 million ft².
Residential—1,000 units.
Hotel—383 rooms.
High Tech—0.5 million ft².
01/01/2004-12/31/2005:
Complete Phase II vertical development:
Retail—0.3 million ft²—Total: 1.5 million ft².
Office—0.5 million ft²—Total: 1.5 million ft².
Residential—600 units—Total: 1,600 units.
Hotel—192 rooms—Total: 575 rooms.
High Tech—0.5 million ft²—Total: 1.0 million ft².
01/01/2006-build-out¹:
Complete Phase III vertical development:
Retail—0.1 million ft²—Total: 1.6 million ft².
Office—2.5 million ft²—Total: 4.0 million ft².
Residential—1285 units—Total: 2885 units.
Hotel—575 rooms—Total: 1150 rooms.
High Tech—0.5 million ft²—Total: 1.5 million ft².
¹ The build out projections will vary. These numbers relate to the BATAD#2 projections.

This is a non-traditional TCM. It includes aspects which, if considered alone, may qualify as TCMs and other aspects which would not by themselves qualify as TCMs, but contribute to anticipated air quality benefits through this project. The resulting TCM is complex and requires a non-traditional analysis by EPA. Normally, EPA's review would focus on whether a sponsoring agency of a proposed TCM has sufficient legal authority, procedures and resources to complete a particular project. For a vanpool or high occupancy vehicle lane project, for example, this inquiry is fairly straightforward. For this project, with its overlap of land use, site design, mass transit and pedestrian elements, the inquiry is broadened considerably.

All of the parts of this TCM cannot be accomplished with a single piece of legislation or a single agreement. The City of Atlanta has therefore adopted a multi-faceted approach which has been tailored to accomplish the goal of turning an urban brownfield site into a mixed-use community which encourages and facilitates alternative modes of transportation. The two central pieces of this strategy are the zoning conditions applicable to this site adopted by the City and the creation of the BATAD#2, which allows for the reinvestment of tax revenues from the site to pay for the necessary infrastructure improvements. The following is a discussion of how the BATAD#2 and zoning conditions will allow the City of Atlanta to plan, implement, and enforce the necessary components of this TCM.

At the request of Jacoby, and with the support of the affected neighborhood groups, on April 13, 1998, the City of Atlanta adopted 27 special zoning conditions for the Atlantic Steel site that go beyond the zoning conditions typically adopted by the City. The SIP revision contains evidence that these conditions have been fully adopted by the City. Specific conditions which EPA believes support this project being classified a TCM include the following:

1. Rezone the property to C-4-C (mixed use) classification. By allowing a mix of uses the site design will limit trips as persons who work or live at the site will have retail and entertainment opportunities nearby.

2. The property will be developed in accordance with the “Use Diagram” filed with the City which includes right-of-way for bicycle lanes, sidewalks, mass transit lines and greenspace. It also limits the uses available in certain sensitive areas of the site to help maintain a desirable quality of life for residents.

3. The development will be subject to restrictive covenants which will provide for maintenance of open space areas and architectural control on all buildings through an architectural review board, which will include representatives from neighboring Home Park and Loring Heights. This condition will help provide and keep up greenspace as well as ensure a desirable quality of life for residents and visitors.

4. The developer will work with the City and neighborhood groups to limit cut-through traffic in designated areas by use of cul-de-sacs and traffic calming devices. This condition will promote pedestrian activity.

5. There will be at least seven acres of open space which will include a lake and landscaped areas as indicated in the “Primary Residential” area of the diagram. This condition will help create a pedestrian-friendly atmosphere.

6. Design standards with dimensions for streetscape, pedestrian and bike paths will be implemented as depicted on the drawing and will be installed concurrently with the street system. This condition will help ensure that non-automobile access is prioritized concurrently with road construction.

7. No “at-grade” crossing over the railroad line at Mecaslin Street will be utilized and the developer will not pursue any other crossing of Mecaslin Street north of the railroad line, except to provide a trail link and crossing for bikes and pedestrians. The developer also will construct a 12-feet wide concrete, multi-use trail connection to this crossing from the bike lanes on 17th Street and the multi-use trail. This condition will encourage pedestrian and bicycle activity.

8. The developer will incorporate people movers and other alternative forms of public transportation into its plans, subject to state, local and Federal approvals, including plans for access to the MARTA Arts Center station as well as provision for a rail corridor to the west and use its best efforts to see that such transportation is provided. This condition will contribute to the transit and pedestrian orientation of the project.

9. Only retail shops will be allowed in all buildings facing 17th street in the “Mixed Use” area. This will encourage pedestrian activity by creating a pedestrian friendly atmosphere and destinations for pedestrians.

10. The developer will use best efforts to ensure that development is phased so that proposed residential is completed before or concurrently with proposed retail/commercial. This will help ensure development of the mixed-use attributes of the site, which relates to the pedestrian orientation of the project.

11. Primary pedestrian entrances shall face public sidewalks. This condition will enhance the pedestrian friendly design of the site.

12. In the 17th Street “Mixed Use” area, no parking or driveways shall be permitted between any building and the sidewalk (with the exception of parking garages and hotels with circular driveways). This condition will enhance the pedestrian friendly design of the site.

13. In the 17th Street “Mixed Use” area, curb cuts will be limited to one per building (except for parking garages and hotels, which may have two). This condition will enhance the pedestrian friendly design of the site.

14. In the 17th Street “Mixed Use” area, buildings shall be set back no more than 25 feet from edge of the curb, except to provide public plazas, greenspace or pedestrian space. This condition will enhance the pedestrian friendly design of the site.

15. No temporary or permanent Certificates of Occupancy will be provided by the city until the Bureau of Buildings certifies that entire landscape plan for that phase of the development has been fully implemented. This condition will help ensure that landscape, pedestrian and greenspace designs receive priority from the developer.

16. All proposed pedestrian and open space improvements must be fully implemented for that phase of development before any temporary or permanent Certificates of Occupancy shall be issued. This condition will help ensure that landscape, pedestrian and greenspace designs receive priority from the developer.

17. The Bureau of Buildings shall not issue a building permit until such time as the applicant has submitted a Transportation Management Plan for all non-residential components. This condition is designed to ensure that an important focus of the development remains consideration of pedestrians and mass transit.

18. The developer is required to meet with the local neighborhood planning unit on an annual basis to report on the status of the project. This condition will help ensure that the developer stays in communication with affected residents and gives the public an opportunity to stay involved and monitor progress at the site.

The City of Atlanta has the legal authority to enact, implement and enforce the zoning conditions described above. Further, affected citizens and businesses also have standing under Georgia law to bring a lawsuit and enforce specific zoning conditions, provided they can meet the standing requirements. By proposing this project as a TCM , adopting these zoning conditions, and by committing to implement this project as part of the SIP revision, the City of Atlanta is demonstrating that it is willing to implement and enforce the necessary measures to complete this project.

The City of Atlanta's commitment to this project is also evident by the creation of the BATAD#2. The BATAD#2, created pursuant to Georgia law, allows Atlanta to commit anticipated public tax revenues to the necessary infrastructure improvements to accomplish the goals set forth in the proposed Redevelopment Plan by the City for the site. The City will contract with the Atlanta Development Authority to serve as the City's “Redevelopment Agent” responsible for implementing the proposed Redevelopment Plan. An important consideration for EPA in analyzing a TCM proposal includes whether or not there is sufficient financial support to implement the project as well as whether there is sufficient political means to complete a project. By creating the BATAD#2, Atlanta ensures that not only will there be sufficient funds and an enforcement mechanism for them, but the BATAD#2 also contributes additional mechanisms for assisting the implementation of mass transit and pedestrian orientation at the site.

The BATAD#2 will provide funding for the construction and maintenance of sidewalks, bike-paths, open space and other quality of life attributes of the site. Jacoby will donate the right-of-way for streets, sidewalks, bike-lanes and open space consistent with the Site Plan filed under the zoning conditions. The BATAD#2 will then ensure that funding is available for transportation and other important infrastructure improvements such as waste and stormwater controls.

The BATAD#2 will be able to provide some funding for the study and implementation of mass transit service to the Atlantic Steel site and connectivity to existing MARTA rail (i.e, contribute towards a local match for securing federal transit support). As with sidewalks, bike-paths and roads, Jacoby will donate the right-of-way to either the City or MARTA (or another suitable entity) to ensure that land acquisition of the necessary right-of-way is not an impediment to the success of the transit/pedestrian orientation of the site.

The BATAD#2 will provide the City with the financial wherewithal to coordinate development activities at the site with the various stakeholders, most important, the residents, neighbors and business owners in the area. The BATAD#2 may also provide the necessary funding for the creation of a TMA for the area. A TMA can play a crucial role in developing and implementing methods to reduce congestion, VMT and unnecessary automobile trips.

Despite the non-traditional aspects of this TCM, it is still subject to the same enforceability considerations and constraints applicable to any TCM as required by the Clean Air Act and its implementing regulations. Control measures adopted into a SIP are enforceable by EPA pursuant to section 113 of the CAA (42 U.S.C. 7413). That section provides for the assessment by the Administrator of civil penalties of up to $27,500 per day per violation against a person who has violated any requirement or prohibition of an applicable implementation plan. An “applicable implementation plan” is defined as that portion of a state implementation plan, which has been approved by the Administrator. (CAA Section 302(q) (42 U.S.C. 7602(q)). Once the SIP revision is approved by the EPA, it becomes part of the State's “applicable implementation plan” or SIP, and enforceable by EPA as well as by the State. Violations of SIP measures relating to TCMs are also enforceable by citizen suit under section 304(a)(1) and (f)(3).

Given the extraordinary zoning conditions placed on the site, and the creation of the BATAD#2 with the specific objective of providing the necessary funding for requisite infrastructure improvements, EPA finds that the City of Atlanta and State of Georgia have met this criterion by providing sufficient evidence that a schedule to plan, implement, and enforce the measure has been adopted by the City.

F. Description of the Monitoring Program To Assess the Measure's Effectiveness and To Allow for Necessary In-Place Corrections or Alterations

The implementation and performance of the Atlantic Steel TCM will be monitored in accordance with the following seven main components:

1. The City of Atlanta has established zoning conditions on the Atlantic Steel property that require the project developer to complete certain activities that are also related to implementation of the TCM. (See section II.E above.) Compliance with zoning conditions is enforceable by law.

2. The SIP revision requires that the 17th Street bridge must be designed as a multi-modal facility that will provide a connection to the MARTA Arts Center station, accommodate future rail transit, and provide adequate widths dedicated for sidewalks and bicycle lanes. The SIP revision requires GDOT to ensure that the bridge will not be constructed without these elements. In addition, there are a number of design-specific measures that will be considered in the next phase of bridge and intersection design to ensure that bicycle and pedestrian needs are met. These include: construction of narrower lanes to shorten the length of the intersection crossing; develop wider medians to provide islands; consideration of prioritized signal timing for pedestrians; use of special surface treatments for cross walks; consideration of elimination of turn lanes; and consideration of phased construction of 17th Street to provide for optimal pedestrian improvements. The SIP revision requires the City of Atlanta and GDOT to commit to work with affected stakeholders of the project to ensure that pedestrian needs are considered and a continuous flow of pedestrian movement is maintained in the design of roadways and intersections connecting the 17th Street bridge into Midtown Atlanta.

3. The SIP revision requires Jacoby to submit copies of the site plan, with revisions, to the City of Atlanta, ARC, EPD, and EPA Region 4 annually after the 17th Street bridge opens to traffic until the project is built-out. The SIP revision requires that when the project reaches two-thirds build-out or after six years from the date that the bridge opens to traffic, whichever comes first, the site design will be compared to the four site design criteria targets listed in Table 6. The site design criteria will be evaluated consistent with the definitions and methodologies contained in the EPA report entitled “Transportation and Environmental Analysis of the Atlantic Steel Development Proposal,” dated May 10, 1999. The comparison will evaluate whether the site meets or will meet the criteria. If the site design at this time does not meet or exceed the target values in Table 6, Jacoby must submit and receive approval from the City of Atlanta, ARC, EPD, and EPA for a revised final site plan that does. Project build-out is defined as the amount of development allowed under the conditions of zoning for the Atlantic Steel project.

Table 6.—Atlantic Steel TCM Site Design Criteria
Criterion | Description | Target value | Criterion | Description | Target value
Overall density | Total number of residents + employees on site | ≥12,000
Transit-oriented density ¹ | Total number of residents + employees per net acre within ¼-mile of an on-site transit stop | ≥180
Activity diversity | Percent of blocks with mixed uses ² | ≥33
External street connectivity | Average distance (in feet) between site ingress/egress streets | ≤1,000—unless the City of Atlanta specifies otherwise ³
¹ Transit-oriented density around any individual transit stop may vary significantly, but the average density around all transit stops must be equal to or greater than 180 people per net acre within ¼ mile of the stop. This measure only includes on-site acreage.
² Percent of blocks with mixed use. A block is defined traditionally by the area contained within streets. Classification of uses will be according to major Standard Industrial Classification codes.
³ This is calculated by dividing the length of the site's perimeter in feet by the number of ingress/egress streets. It is possible that the City of Atlanta would prevent connectivity of some streets or close access to some streets after they are built at the request of adjacent neighborhoods. Because this would be beyond the control of developers of the Atlantic Steel property, if such an event occurs, the target value is no longer effective.

4. The SIP revision requires that the TCM be monitored annually, beginning in the year following the opening of the 17th Street bridge to traffic and biennially after the project has reached two-thirds build-out. As part of the monitoring effort, the City of Atlanta will be responsible for collecting and maintaining the following data, at a minimum:

a. Average daily VMT per resident;

b. Average daily VMT per employee working at the site;

c. The percent of all combined trips made to, from and on the site by residents and employees in modes other than single occupancy vehicles (modal splits); and

d. Origin and destination data for trips made to, from and on the site by residents and employees.

The SIP revision requires the City of Atlanta and Jacoby, through a contractor or through the TMA, to develop a plan for data collection and submit it to ARC, EPD, and EPA Region 4 for approval prior to opening of the 17th Street bridge to traffic. The SIP revision specifies that data collection will continue until ten years following redesignation by EPA of the Atlanta area to attainment under the National Ambient Air Quality Standards for ozone. The SIP revision requires that the data be evaluated consistent with the definitions and methodologies contained in the EPA report entitled “Transportation and Environmental Analysis of the Atlantic Steel Development Proposal,” dated May 10, 1999. ARC will be responsible for deriving mobile source emissions obtained from the data. At any time, the City of Atlanta may choose to solicit other transportation information such as travel cost and transit patronage that are beneficial for devising strategies to reduce VMT and single occupancy automobile travel.

This data collection requirement may necessitate that EPA submit an Information Collection Request (ICR) to the Office of Management and Budget. EPA will submit the ICR at a later date. Until EPA receives approval of the ICR, any component of the monitoring of this TCM that requires a survey of ten or more people may not be enforceable.

5. The SIP revision requires that at two, three and a half, and five years after the 17th Street bridge opens to traffic, the City of Atlanta, EPD, and EPA Region 4 will compare the observed average daily VMT per resident, the observed average daily VMT per employee working at the site, and the observed percent of all combined trips made to, from and on the site by residents and employees in modes other than single occupancy vehicles with ARC's most recent estimates of the regional (Atlanta 13-county nonattainment area) averages for these measures. If either of the observed VMT measures for the site is greater than or equal to the corresponding regional average, or if the observed mode split for the site is less than or equal to the regional average, then Jacoby will identify funding or fund the creation of a TMA for a period of twenty years from the applicable date, if employers and property managers are not participating in a TMA at that time. (The SIP revision requires that employers on the Atlantic Steel site participate in a TMA and that Jacoby assist with initial financial support for the TMA.) The TMA will consult with the City of Atlanta concerning implementation of additional alternative transportation programs that achieve the performance standards stipulated in Table 7. The SIP revision requires the City of Atlanta to ensure that these programs will be developed and implemented, as appropriate, by the TMA.

Table 7.—Atlantic Steel TCM Performance Measures
Performance measure | Description | Target value
VMT per resident | Average daily VMT for all trips made by residents of the site | ≤27.
VMT per employee | Average daily VMT for trips to and from work for employees working on site | ≤11.
Mode Split | Percent of all trips to, from and on the site made by residents and employees combined, using non-SOV modes | ≥25.

6. The SIP revision requires that starting at six years after the 17th Street bridge opens to traffic or at two-thirds build-out, whichever occurs first, and at any time thereafter, if the site is not meeting or exceeding the performance targets contained in Table 7, Jacoby will identify funding or fund the creation of a TMA for a period of twenty years from the applicable date, if employers and property managers are not participating in a TMA at that time. (The SIP revision requires that employers on the Atlantic Steel site participate in a TMA and that Jacoby assist with initial financial support for the TMA.) The SIP revision requires the TMA to consult with the City of Atlanta concerning implementation of additional alternative transportation programs that achieve the performance standards stipulated in Table 7. The SIP revision requires the City of Atlanta to ensure that these programs will be developed and implemented, as appropriate, by the TMA. Examples of suggested programs are:

a. Transit discounts for on-site employees.

b. Increased provision of shuttle bus service or other transit service.

c. Increased parking rates, by time-of-day, by facility, and by parking type, as needed.

d. Reduction of available parking facilities or spaces.

e. Carpool/vanpool matching services.

f. Providing free or highly discounted annual regional transit passes with each residential unit (included in leases and property covenants).

g. Addition of traffic calming measures, such as raised pedestrian crosswalks, sidewalk bump-outs, diagonal on-street parking, or pedestrian islands.

h. Provisions and support for neighborhood car rental, car sharing systems, and real-time ridesharing services for residents and visitors.

i. Provision of additional facilities and amenities for non-SOV users such as bus shelters, bike racks and lockers, sidewalks, bike paths, park-and-ride facilities, telephones at shelters, newsstands, convenience retail, and daycare facilities.

j. Provision of guidance for telecommuting and alternative work schedules.

k. Employee Commuter Choice incentives—employees would be given the opportunity to purchase employer-discounted transit passes and vanpool benefits using pre-tax dollars.

EPA finds that the City of Atlanta and State of Georgia have met this criterion by providing sufficient evidence that a monitoring program to assess the measure's effectiveness and to allow for necessary in-place corrections or alterations has been included in the TCM.

III. Proposed Action

EPA finds that the Atlantic Steel TCM SIP revision satisfies EPA's six TCM criteria, and therefore EPA is proposing approval of the aforementioned changes to the Georgia SIP.

IV. Administrative Requirements

Under Executive Order 12866 (58 FR 51735, October 4, 1993), this action is not a “significant regulatory action” and therefore is not subject to review by the Office of Management and Budget. This action merely proposes to approve state law as meeting federal requirements and imposes no additional requirements beyond those imposed by state law. Accordingly, the Administrator certifies that this rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. The data collection requirement may necessitate that EPA submit an ICR to the Office of Management and Budget. EPA will submit the ICR at a later date. Until EPA receives approval of the ICR, any component of the monitoring of a TCM that requires a survey of ten or more people may not be enforceable.

List of Subjects in 40 CFR Part 52

Environmental protection, Air pollution control, Carbon monoxide, Hydrocarbons, Intergovernmental relations, Nitrogen dioxide, Ozone, Reporting and recordkeeping requirements.

Authority: 42 U.S.C. 7401-7671q.

Dated: April 3, 2000,
John H. Hankinson, Jr.,
Regional Administrator, Region 4.

[FR Doc. 00-8835 Filed 4-7-00; 8:45 am]

BILLING CODE 6560-50-P